DEPARTMENT OF TRANSPORTATION

Federal Railroad Administration

49 CFR Parts 229, 231, and 232

[FRA Docket No. PB-9; Notice No. 18]

RIN 2130-AB16

Brake System Safety Standards for Freight and Other Non-Passenger Trains and Equipment; End-of-Train Devices; Final Rule: Delay of Effective Date

AGENCY: Federal Railroad Administration (FRA), DOT.

ACTION: Final Rule; Delay of effective date; Conforming amendments.

SUMMARY: In accordance with the memorandum of January 20, 2001, from the Assistant to the President and Chief of Staff, entitled “Regulatory Review Plan,” published in the Federal Register on January 24, 2001, 66 FR 7702, this action temporarily delays for 60 days the effective date of the rule entitled “Brake System Safety Standards for Freight and Other Non-Passenger Trains and Equipment; End-of-Train Devices; Final Rule,” published in the Federal Register on January 17, 2001, 66 FR 4104. This action also makes conforming amendments to reflect the effective date delay. That rule amends the regulations governing the power braking systems and equipment used in operating freight and other non-passenger trains and equipment, to achieve safety by better adapting those regulations to the needs of contemporary railroad operations and better facilitating the use of advanced technologies.

DATES: The effective date of the final rule amending 49 CFR parts 229 and 231 and revising 49 CFR part 232 published in the Federal Register on January 17, 2001, at 66 FR 4104, and designated “FRA Docket No. PB-9; Notice No. 17,” is delayed for 60 days, from April 1, 2001, until May 31, 2001. In addition, the Director of the Federal Register's approval of the incorporation by reference of certain publications listed in that rule is delayed for 60 days, from April 1, 2001, until May 31, 2001. The conforming amendments are effective May 31, 2001.

FOR FURTHER INFORMATION CONTACT: Thomas Herrmann, Trial Attorney, FRA, Office of Chief Counsel, 1120 Vermont Avenue, NW., Mail Stop 10, Washington, DC 20590 (telephone (202) 493-6053).

SUPPLEMENTARY INFORMATION: To the extent that 5 U.S.C. 553 applies to this delay in effective date, it is exempt from notice and comment because it constitutes a rule of procedure under 5 U.S.C. 553(b)(A). Alternatively, the FRA's implementation of this action postponing the effective date without opportunity for public comment, effective immediately upon publication today in the Federal Register, is based on the “good cause” exceptions in 5 U.S.C. 553(b)(B) and 553(d)(3). Seeking public comment is impracticable, unnecessary, and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

In this action FRA also makes conforming changes to the text of the final rule published on January 17, 2001, so as to reflect the new effective date of May 31, 2001.

List of Subjects

49 CFR Part 229

Railroad locomotive safety, Railroad safety.

49 CFR Part 231

Railroad safety, Railroad safety appliances.

49 CFR Part 232

Incorporation by reference, Railroad power brakes, Railroad safety, Two-way end-of-train devices.

The Rule

In consideration of the foregoing, 49 CFR part 232, as revised at 66 FR 4193 effective May 31, 2001, is amended as follows:

PART 232—[AMENDED]

1. The authority citation for part 232 continues to read as follows:

Authority: 49 U.S.C. 20102-20103, 20107, 20133, 20141, 20301-20303, 20306, 21301-21302, 21304; 49 CFR 1.49(c), (m).

§ 232.1 [Amended]

2. In § 232.1(b) and (d), all references to “April 1, 2001” are revised to read “May 31, 2001”.

Appendix B to Part 232 [Amended]

3. In the heading of appendix B to part 232, revise “April 1, 2001” to read “May 31, 2001”.

Issued in Washington, DC, on January 31, 2001.
Ray Rogers,
Acting Deputy Administrator.

[FR Doc. 01-3212 Filed 2-9-01; 8:45 am]

BILLING CODE 4910-06-P